DEPARTMENT OF THE INTERIOR

Bureau of Land Management

[ID-087-5420-PN-D031, D032; GPO-04-0005; IDI-34724, IDI 34725]

Disclaimers of Interest in Lands, Idaho

AGENCY: Bureau of Land Management, Interior.

ACTION: Notice.

SUMMARY: Two applications have been filed by Ann Nilsson for recordable disclaimers of interest in certain lands by the United States.

DATES: Comments or protests to this action should be received by December 23, 2004.

ADDRESSES: Comments or protests must be filed with: State Director (ID933), Bureau of Land Management, 1387 S. Vinnell Way, Boise, ID 83709.

FOR FURTHER INFORMATION CONTACT: Cathie Foster, BLM, Idaho State Office, 1387 S. Vinnell Way, Boise, Idaho 83709, (208) 373-3863 or Ron Grant, BLM, Cottonwood Field Office, House 1, Butte Drive Route 3, Box 181, Cottonwood, Idaho 83522, (208) 962-3680.

SUPPLEMENTARY INFORMATION: Pursuant to Section 315 of the Federal Land Policy and Management Act of 1976 (43 U.S.C. 1745), Ann Nilsson has filed two applications requesting the United States issue recordable disclaimers of interest.

One disclaimer of interest has been requested by Ann Nilsson for the following described property, to wit:

The 50.6 acres fronting government lot 8 in section 6 shown on a Record of Survey in T. 34 N., R. 5 W., sections 5, 6, and 8, Boise Meridian, Idaho, executed by Terry Golding, PLS 7379, plat signed August 29, 2003 and on file in the BLM, Idaho State Office in case file IDI 34724.

Another disclaimer of interest has been requested by Ann Nilsson for the following described property:

The 88.6 acres fronting government lots 4, 5, 6, and 7, in section 6 shown on a Record of Survey in T. 34 N., R. 5 W., sections 5, 6, and 8, Boise Meridian, Idaho, executed by Terry Golding, PLS 7379, plat signed August 29, 2003, and on file in the BLM, Idaho State Office in case file IDI 34725.

Ann Nilsson has filed two applications for Recordable Disclaimers of Interest to lands fronting her property along the Snake River approximately four miles southerly of Lewiston, Idaho. Because of property descriptions differences uncovered during probate, Terry Golding, Idaho PLS 7379, was retained by Ms. Nilsson and others to conduct a private survey of conditions in this township. Mr. Golding followed the record of the 1870 original GLO survey by John B. David since the patents for the lands fronting the possible omitted lands were based on that survey. Based on the applications and Record of Survey by Terry Golding, plat signed August 29, 2003 and on file in the BLM, Idaho State Office in case file IDI 34724 and case file IDI 24725, the original 1871 survey by John B. David erroneously reported the location of the line of ordinary high water for the Snake River. We consider this erroneous location to be nonsubstantial and thus eligible for a disclaimer of interest according to the case law elements required for omitted lands. Therefore, the applications by Ann Nilsson for disclaimers from the United States will be approved if no valid objection is received. This action will clear a cloud on the title of the applicant's land.

Comments, including names and street addresses of respondents will be available for public review at the Idaho State Office, Bureau of Land Management, 1387 S. Vinnell Way, Boise, Idaho during regular business hours 9 a.m. to 4 p.m. Monday through Friday, except holidays. Individual respondents may request confidentiality. If you wish to withhold your name or address from public review or from disclosure under the Freedom of Information Act, you must state this prominently at the beginning of your comments. Such requests will be honored to the extent allowed by law. All submissions from organizations or businesses and from individuals identifying themselves as representatives or officials of organizations or businesses will be made available for public inspection in their entirety.

Dated: July 23, 2004.
Jimmie Buxton,
Branch Chief, Lands and Minerals, Resource Services Division.

[FR Doc. 04-21461 Filed 9-23-04; 8:45 am]

BILLING CODE 4310-GG-P